CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Alumni Outcomes Survey for review and approval in accordance with the Paperwork Reduction Act of 1995, Public Law 104-13, (44 U.S.C. Chapter 35). Copies of this ICR, with applicable supporting documentation, may be obtained by calling the Corporation for National and Community Service, Diana Epstein at 202-606-7564 or email to depstein@cns.gov. Individuals who use a telecommunications device for the deaf (TTY-TDD) may call 1-800-833-3722 between 8 a.m. and 8 p.m. Eastern Time, Monday through Friday.

ADDRESSES: Comments may be submitted, identified by the title of the information collection, to the Office of Information and Regulatory Affairs, Attn: Ms. Sharon Mar, Desk Officer for the Corporation for National and Community Service, by any of the following methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on November 10, 2014. This comment period ended January 9, 2015. No public comments were received from this Notice.

Description: Information will be collected from AmeriCorps alumni through an online survey that will be administered by a contractor on behalf of CNCS. The purpose of the survey is to support CNCS in documenting the long-term civic participation and career pathways of AmeriCorps alumni and to help the agency determine whether or not national service members continue to be civically engaged or choose service-oriented careers. In addition, the agency is interested in exploring whether or not AmeriCorps members are as, or more, likely than those who participate in other types of service to maintain a sense of civic duty and pursue service-oriented careers. This is a new information collection request. Information will be collected from a nationally representative sample of AmeriCorps alumni who served in AmeriCorps NCCC, AmeriCorps VISTA, and AmeriCorps State and National programs and completed their most recent term of service 2, 5, or 10 years ago.

Type of Review: New.

Agency: Corporation for National and Community Service.

Title: Alumni Outcomes Survey.

OMB Number: TBD.

Agency Number: None.

Affected Public: AmeriCorps alumni.

Total Respondents: 3,465.

Frequency: One time.

Average Time per Response: Averages 20 minutes.

Estimated Total Burden Hours: 1,155.

Total Burden Cost (capital/startup): None.

Total Burden Cost (operating/maintenance): None.

Dated: January 22, 2015.
Stephen Plank,
Director, Office of Research and Evaluation.

[FR Doc. 2015-01617 Filed 1-27-15; 8:45 am]

BILLING CODE 6050-28-P